FEDERAL MARITIME COMMISSION

Sunshine Act Meetings

TIME AND DATE: December 4, 2024; 1:00 p.m.

PLACE: The meeting will be held at the Surface Transportation Board at the address below and also streamed live on the Federal Maritime Commission's YouTube channel.

Surface Transportation Board, 395 E Street SW, Room #1042 (Hearing Room), Washington, DC 20423

STATUS: The meeting will be held on December 4, 2024, beginning at 1:00 p.m. in the Hearing Room of the Surface Transportation Board. The meeting will be open for public observation and streamed live on the Federal Maritime Commission's YouTube channel. Any person wishing to attend the meeting in person should register in advance by submitting their name to secretary@fmc.gov no later than 5 p.m. EST on December 2, 2024. In-person attendees should report to the Surface Transportation Board with enough time to clear building security procedures. If technical issues prevent the Commission from streaming live, the Commission will post a recording of the meeting on the Commission's YouTube channel following the meeting.

MATTERS TO BE CONSIDERED:

1. Oral argument in Docket No. 22-12, International Longshoremen's Association v. Gateway Terminals, LLC, et al.

CONTACT PERSON FOR MORE INFORMATION: David Eng, Secretary, (202) 523-5725.

David Eng,
Secretary, Federal Maritime Commission.

[FR Doc. 2024-27854 Filed 11-22-24; 4:15 pm]

BILLING CODE 6730-02-P